DEPARTMENT OF THE INTERIOR

Bureau of Indian Affairs

[256A2100DD/AAKC001030/A0A501010.999900]

Land Acquisitions; Hopi Tribe, Coconino County and Navajo County, Arizona

AGENCY: Bureau of Indian Affairs, Interior.

ACTION: Notice.

SUMMARY: Under the Navajo-Hopi Land Dispute Settlement Act of 1996 (Act), Congress approved a final settlement of multiple claims the Hopi Tribe had against the United States. Under the Act, Congress authorized the Hopi Tribe to acquire up to 500,000 acres of land in northern Arizona to be taken into trust, including private land purchased from willing sellers and interspersed State trust land held by the State of Arizona located within the exterior boundaries of the purchased private land. The Hopi Tribe purchased 161,423.58 acres of private land from willing sellers, which are held in trust by the United States. Additionally, together with the State of Arizona, the Hopi Tribe has identified for acquisition an additional 110,759.17 acres of interspersed State trust lands. At the request of the Department of the Interior, the Department of Justice has initiated proceedings to condemn the interspersed State trust lands identified by the Hopi Tribe and the State of Arizona under the authority of section 6 of the Act and applicable Federal law. The parcels to be condemned and then taken into trust are described below.

DATES: The decision takes effect on December 30, 2024.

FOR FURTHER INFORMATION CONTACT: Jessie H. Durham, Regional Director, Western Region, Bureau of Indian Affairs 2600 N Central Ave., Phoenix, Arizona 85004, jessie.durham@bia.gov, (480) 535-2247.

SUPPLEMENTARY INFORMATION: The Assistant Secretary—Indian Affairs, on behalf of the Secretary of the Interior, will immediately acquire the title to the lands described below in the name of the United States of America in trust for the Hopi Tribe, upon title vesting in the name of the United States pursuant to section 6 of the Navajo-Hopi Land Dispute Settlement Act of 1996 and 40 U.S.C. 3114(b).

Legal Description of Property

Gila and Salt River Meridian, Arizona

T. 15 N., R. 15 E.,

Sec. 2, lots 1 thru 4, S½N½, and S½;

Sec. 4;

Sec. 8;

Sec. 10.

T. 16 N., R. 13 E.,

Sec. 2, lots 1 thru 16, and S½;

Sec. 4;

Sec. 8;

Sec. 10;

Sec. 12;

Sec. 14.

T. 16 N., R. 14 E.,

Sec. 2, lots 1 thru 20, and S½;

Sec. 4, lots 1 thru 20, and S½;

Sec. 6, lots 1 thru 22, E½SW¼, and SE¼;

Sec. 8.

T. 16 N., R. 15 E.,

Sec. 2, lots 1 thru 20, and S½;

Sec. 4, lots 1 thru 20, and S½;

Sec. 6, lots 1 thru 15, lots 18 thru 22, E½SW¼, and W½SE¼;

Sec. 8;

Sec. 10;

Sec. 12;

Sec. 14;

Sec. 16;

Sec. 20;

Sec. 22;

Sec. 24;

Sec. 26;

Sec. 28;

Sec. 32;

Sec. 34.

T. 16 N., R. 16 E.,

Sec. 4, lots 1 thru 16, and S½;

Sec. 6;

Sec. 8;

Sec. 16;

Sec. 18;

Sec. 30.

T. 17 N., R. 13 E.,

Sec. 2;

Sec. 4;

Sec. 8;

Sec. 10;

Sec. 12;

Sec. 14;

Sec. 16;

Sec. 20;

Sec. 22;

Sec. 24;

Sec. 26;

Sec. 28;

Sec. 32, lots 1 thru 8, N½S½, and N½;

Sec. 34, lots 1 thru 4, N½S½, and N½;

Sec. 36, lots 1 thru 4, N½S½, and N½.

T. 17 N., R. 14 E.,

Sec. 2;

Sec. 4;

Sec. 6, lots 1 thru 4, E½W½, and E½;

Sec. 8;

Sec. 10;

Sec. 12;

Sec. 14;

Sec. 16;

Sec. 18, lots 1 thru 4, E½, and E½W½;

Sec. 20;

Sec. 22;

Sec. 24;

Sec. 26;

Sec. 28;

Sec. 30, lots 1 thru 4, E½W½, and E½;

Sec. 32, lots 1 thru 4, N½S½, and N½;

Sec. 34, lots 1 thru 4, N½S½, and N½;

Sec. 36, lots 1 thru 4, N½S½, and N½.

T. 17 N., R. 15 E.,

Sec. 4;

Sec. 6, lots 1 thru 4, E½W½, and E½;

Sec. 8;

Sec. 10;

Sec. 12;

Sec. 14;

Sec. 16;

Sec. 18, lots 1 thru 4, E½W½, and E½;

Sec. 20;

Sec. 24;

Sec. 26;

Sec. 28;

Sec. 30, lots 1 thru 4, E½W½, and E½;

Sec. 32, lots 1 thru 4, N½, and N½S½;

Sec. 34, lots 1 thru 4, N½, and N½S½;

Sec. 36, lots 1 thru 4, N½, and N½S½.

T. 17 N., R. 16 E.,

Sec. 2, lots 1 thru 4, S½N½, and S½;

Sec. 6, lots 1 thru 4, S½N½, and S½;

Sec. 8;

Sec. 10;

Sec. 12, lots 1 thru 4, W½E½, and W½;

Sec. 14;

Sec. 16;

Sec. 18;

Sec. 20;

Sec. 22;

Sec. 28;

Sec. 30;

Sec. 32.

T. 17 N., R. 17 E.,

Sec. 4, lots 1 thru 4, S½N½, and S½;

Sec. 6, lots 1 thru 7, S½NE¼, SE¼NW¼, E½SW¼, and SE¼;

Sec. 8.

T. 18 N., R. 13 E.,

Sec. 24;

Sec. 26;

Sec. 34;

Sec. 36.

T. 18 N., R. 14 E.,

Sec. 2, lots 2 thru 4, SW¼NE¼, S½NW¼, SW¼, W½SE¼, and W½E½SE¼;

Sec. 4, lots 1 thru 4, S½N½, and S½;

Sec. 6, lots 1 thru 4, S½N½, and S½;

Sec. 8;

Sec. 10;

Sec. 14;

Sec. 16;

Sec. 18;

Sec. 20;

Sec. 22;

Sec. 24, W½SW¼NE¼, W½NE¼NW¼, SE¼NE¼NW¼, NW¼NW¼, S½NW¼, SW¼, and W½SE¼;

Sec. 26;

Sec. 28;

Sec. 30;

Sec. 32;

Sec. 34;

Sec. 36, lots 1 thru 4, W½E½, and W½.

T. 18 N., R. 15 E.,

Sec. 30, W½W½NW¼NW¼, SW¼NW¼, NW¼SW¼, S½SW¼, S½NE¼SW¼, NW¼NE¼SW¼, SW¼SE¼, and S½SE¼SE¼;

Sec. 32, S½S½SW¼NE¼, NW¼NW¼NW¼, S½NW¼NW¼, S½NW¼, SW¼, W½SE¼, W½E½SE¼, SE¼NE¼SE¼, and E½SE¼SE¼.

T. 18 N., R. 16 E.,

Sec. 24, E½NE¼, SW¼NE¼, NE¼SE¼NW¼, S½SE¼NW¼, and S½;

Sec. 26;

Sec. 28, SE¼NE¼, SE¼SW¼, S½SW¼SW¼, and SE¼;

Sec. 32, NE¼SW¼, S½SW¼, S½NW¼SW¼, NE¼NW¼SW¼, SE¼, S½NE¼, S½NE¼NE¼, NE¼NE¼NE¼, and SE¼SE¼NW¼;

Sec. 34;

Sec. 36.

T. 18 N., R. 17 E.,

Sec. 18, NE¼NE¼, S½NE¼, E½NW¼NE¼, SW¼NW¼NE¼, E½SE¼NW¼, E½SW¼, and SE¼;

Sec. 20;

Sec. 28;

Sec. 30, lots 1 thru 4, E½, and E½W½;

Sec. 32.

T. 19 N., R. 11 E.,

Sec. 2;

Sec. 4;

Sec. 8;

Sec. 12, W½W½;

Sec. 14;

Sec. 16;

Sec. 20, SE¼SW¼, and S½SE¼.

T. 19 N., R. 12 E.,

Sec. 4, lots 1 thru 4, S½N½, and S½;

Sec. 6, lots 1 thru 7, S½NE¼, SE¼NW¼, E½SW¼, and SE¼.

T. 19 N., R. 14 E.,

Sec. 22, W½NE¼, SE¼NE¼, W½E½NE¼NE¼, W½NE¼NE¼, W½, and SE¼;

Sec. 28;

Sec. 32;

Sec. 34.

T. 20 N., R. 10 E.,

Sec. 24.

T. 20 N., R. 11 E.,

Sec. 8;

Sec. 10, except that portion described as “AREA #15” in Arizona State Land Department Record No. 95-98643, situated within the NE¼NE¼NE¼, being more particularly described as follows:

Beginning at the Northeast corner of said Section 10;

Thence S. 0°28′50″ W., along the East line of said Section 10, a distance of 55.68 feet to the Northeasterly right-of-way line of U.S. Highway 66;

Thence N. 65°21′45″ W., along said Highway right-of-way line, a distance of 110.10 feet to the North line of said Section 10;

Thence S. 89°19′50″ E., along said North Section line, a distance of 125.07 feet to the Point of Beginning;

And, except that portion of Interstate Highway 40 right-of-way according to the State of Arizona Department of Transportation (State Highway Department) Right of Way Plan of the Flagstaff—Holbrook Hwy. Canyon Padre—Buffalo Range Rd. State Highway Project No. I-40-4(38)214. Right of Way Map No. D-3-T-537;

And also, except that portion described as “PUE-3” in Arizona State Land Department Record No. 16-121651, situated within the NE¼, being more particularly described as follows:

Commencing at the East ¼ corner of said Section 10 (being marked by a found U.S.G.L.O. Brass Cap), from which the North ¼ corner of said Section 10 (being marked by a U.S.G.L.O Brass Cap), bears N. 45°19′22″ W., a distance of 3,736.19 feet;

Thence N. 0°28′32″ W. (calced) along the East line of the Northeast quarter of said Section 10, a distance of 2,311.33 feet to a point on the Southeasterly right-of-way line of Interstate 40, said point being the Point of Beginning;

Thence departing said East line, N. 66°20′49″ W. along said right-of-way line, a distance of 808.60 feet to a point on the North line of the Northeast quarter of said Section 10;

Thence N. 89°44′13″ E. along said North line of the Northeast quarter, a distance of 123.34 feet;

Thence departing said North line S. 66°20′49″ E., along a line that is parallel with and 50.00 feet Northeasterly of said right-of-way line, a distance of 673.46 feet to a point on the East line of the Northeast quarter of said Section 10;

Thence S. 0°28′32″ E. (calced) along said East line, a distance of 54.79 feet to the Point of Beginning;

Sec. 12, that portion being more particularly described as follows:

Parcel 1

Beginning at the Southwest corner of said Section 12;

Thence North, along the West line of said Section 12, to the Southerly line of the 50 foot wide utility easement described in R/W No. 16-121651-00 of the Arizona State Land Department records;

Thence Southeasterly, along said Southerly line, to the East line of the West half of the Northwest quarter of the Southwest quarter of said Section 12;

Thence South, along said East line, to the Northerly line of the 30 foot wide buried communications cables right of way described in R/W No. 71-3434 of the Arizona State Land Department records;

Thence Southeasterly, along said Northerly line, to the North line of the Southwest quarter of the Southwest quarter of said Section 12;

Thence East, along said North line, to the Northwest corner of the Southeast quarter of the Southwest quarter;

Thence South, along the West line of said Southeast quarter of the Southwest quarter, to the Southwest corner of said Southeast quarter of the Southwest quarter;

Thence West, along the South line of said Section 12, to the Point of Beginning;

Parcel 2

Beginning at the Southeast corner of said Section 12;

Thence West, along the South line of said Section 12, to the Southeast corner of the Southeast quarter of the Southwest quarter of said Section 12;

Thence North, along the East line of said Southeast quarter of the Southwest quarter to the Southerly line of the 50 foot wide utility easement described in R/W No. 16-121651-00 of the Arizona State Land Department records;

Thence Southeasterly, along said Southerly line, to the East line of said Section 12;

Thence South, along said East line, to the Point of Beginning;

Except any portion(s) of Parcel 1 or Parcel 2 lying within the Interstate Highway 40 right-of-way, according to the State of Arizona Department of Transportation (State Highway Department) Right of Way Plan of the Flagstaff—Holbrook State Highway Project No. I-40-4(41)220. Right of Way Map No. D-3-T-538;

Sec. 14;

Sec. 16;

Sec. 18, lots 1 thru 4, E½, and E½W½;

Sec. 22, E½, SW¼, SW¼NW¼, and N½NW¼;

Sec. 24;

Sec. 26;

Sec. 28;

Sec. 30, lots 1 thru 4, E½, and E½W½;

Sec. 32;

Sec. 34;

Sec. 36.

T. 20 N., R. 12 E.,

Sec. 8;

Sec. 10;

Sec. 16, except that portion described as “AREA #19” in Arizona State Land Department Record No. 95-98643, being more particularly described as follows:

Commencing at the Northwest corner of said Section 16;

Thence S. 0°30′45″ W., along the West line of said Section 16, a distance of 2,478.30 feet to the Point of Beginning;

Thence S. 83°00′15″ E., a distance of 5,332.19 feet to the East line of said Section 16;

Thence S. 0°29′15″ W., along said East line, a distance of 56.32 feet to the existing Northerly right-of-way line of the Flagstaff-Holbrook Highway;

Thence Westerly, along said existing right-of-way line, 5,332 feet, more or less, to the West line of Section 16;

Thence N. 0°30′45″ E., along said Section line, 56.32 feet to the Point of Beginning.

And, except that portion of Interstate Highway 40 right-of-way, and that 50′x150′ Drainage Easement (Sta. 1642+03 to Sta. 1642+53), according to the State of Arizona Department of Transportation (State Highway Department) Right of Way Plan of the Flagstaff—Holbrook State Highway Project No. I-40-4(41)220. Right of Way Map No. D-3-T-538;

And also, except that portion described as “PUE-6” in Arizona State Land Department Record No. 16-121651, being more particularly described as follows:

Commencing at the Southeast corner of said Section 16 (being marked by a found U.S.G.L.O. Brass Cap), from which the East ¼ corner of said Section 10 (being marked by a U.S.G.L.O Brass Cap), bears N. 0°29′39″ W., a distance of 2,640.78 feet;

Thence N. 0°29′39″ W. along the East line of the Southeast quarter of said Section 16, a distance of 1,908.63 feet to an A.D.O.T. brass cap (1686+21.80) on the Southerly right-of-way line of Interstate 40, said brass cap being the Point of Beginning;

Thence departing said East line, N. 83°59′21″ W. along said Southerly right-of-way line, a distance of 5,332.05 feet to a found A.D.O.T. aluminum cap (1632+89.57) on the West line of the Southwest quarter of said Section 16, from which the Southwest corner of said Section 16 (being marked by a pile of limestone rocks) bears S. 0°32′30″ E., a distance of 2,512.93 feet;

Thence departing said Southerly right-of-way line, N. 0°28′36″ W., along the West line of the Southwest quarter of said Section 16, a distance of 50.32 feet;

Thence departing said West line, S. 83°59′21″ E., along a line 50.00 feet Northerly of and Parallel with said right-of-way line, a distance of 5,332.03 feet to a point on the East line of the Southeast quarter of said Section 16;

Thence S. 0°29′39″ E., along the East line of the Southeast quarter of said Section 16, a distance of 50.32 feet to the Point of Beginning;

Sec. 18, lots 1 thru 4, E½, and E½W½, except that portion described as “AREA #18” in Arizona State Land Department Record No. 95-98643, being more particularly described as follows:

Commencing at the Northwest corner of said Section 18;

Thence S. 0°31′15″ W., along the West line of said Section 18, a distance of 208.43 feet to the Point of Beginning;

Thence from a local tangent bearing of S. 65°51′55″ E., along a curve concave to the Northeast, with a radius of 22,712.31 feet, a distance of 5,451.72 feet to the East line of said Section 18;

Thence S. 0°27′45″ W., along said East Section line, 20 feet, more or less, to the existing Northerly right-of-way line of the Flagstaff-Holbrook Highway;

Thence Westerly, along said existing right-of-way line, 5,440 feet, more or less, to the West line of Section 18;

Thence North 0°31′15″ E., along said West line, 116.10 feet to the Point of Beginning;

And, except that portion of Interstate Highway 40 right-of-way according to the State of Arizona Department of Transportation (State Highway Department) Right of Way Plan of the Flagstaff—Holbrook State Highway Project No. I-40-4(41)220. Right of Way Map No. D-3-T-538;

And also, except that portion described as “PUE-5” in Arizona State Land Department Record No. 16-121651, being more particularly described as follows:

Commencing at the East quarter corner of said Section 18 (being marked by a found U.S.G.L.O. brass cap), from which the Northeast corner of said Section 18 (being marked by a U.S.G.L.O. brass cap) bears N. 0°32′00″ W., a distance of 2,641.11 feet;

Thence N. 0°32′00″ W. along the East line of the Northeast quarter of said Section 18, a distance of 507.79 feet to an A.D.O.T. aluminum cap (1579+65.56) on the Southerly right-of-way line of Interstate 40, said aluminum cap being the Point of Beginning;

Thence departing said East line, along said Southerly right-of-way line, along the arc of a non-tangent curve, concave Northerly, with a radius of 23,129.63 feet, a radial bearing of S. 9°16′06″ W., through a delta angle of 13°28′53″, an arc length of 5,442.32 feet to a point on the West line of said Section 18, from which the Northwest corner of said Section 18 (being marked by a found U.S.G.L.O. brass cap) bears N. 0°32′42″ W., a distance of 595.34 feet;

Thence departing said right-of-way, N. 0°32′42″ W., along the West line of the Northwest quarter of said Section 18, a distance of 54.45 to the point of curvature for a non-tangent curve, concave Northerly, with a radius of 23,079.63 feet, a radial bearing of S. 22°46′55″ W.;

Thence departing said West line, Southeasterly along the arc of said curve, through a delta angle of 13°30′49″, an arc length of 5,443.44 feet to a point on the East line of the Northeast quarter of said Section 18;

Thence S. 0°32′16″ E., along said East line, a distance of 50.74 feet to the Point of Beginning;

Sec. 20;

Sec. 22;

Sec. 26;

Sec. 28;

Sec. 30, lots 1 thru 4, E½, and E½W½;

Sec. 32;

Sec. 34.

The areas described aggregate 110,759.17 acres.

Subsurface Interests Excluded

Gila and Salt River Meridian, Arizona

T. 17 N., R. 16 E.,

Sec. 10;

Sec. 12, lots 1 thru 4, W½E½, and W½;

Sec. 14;

Sec. 22.

T. 17 N., R. 17 E.,

Sec. 6, lots 1 thru 7, S1/2NE¼, SE¼NW¼, E1/2SW¼, and SE¼;

Sec. 8.

T. 18 N., R. 16 E.,

Sec. 24, E½NE¼, SW¼NE¼, NE¼SE¼NW¼, S½SE¼NW¼, and S½;

Sec. 26;

Sec. 28, SE¼NE¼, SE¼SW¼, S1/2SW¼SW¼, and SE¼;

Sec. 34.

T. 18 N., R. 17 E.,

Sec. 18, NE¼NE¼, S½NE¼, E½NW¼NE¼, SW¼NW¼NE¼, E½SE¼NW¼, E½SW¼, and SE¼;

Sec. 28;

Sec. 30, lots 1 thru 4, E½, and E½W½.

The areas described aggregate 7,559.42 acres.

Authority: This notice is published in the exercise of authority delegated by the Secretary of the Interior to the Assistant Secretary—Indian Affairs by the Departmental Manual in part 209, chapter 8, paragraph 8.1 and is published to comply with the requirements of the Navajo-Hopi Land Dispute Settlement Act of 1996, Public Law 104-301 (Oct. 11, 1996), 110 Stat. 3649.

Bryan Newland,
Assistant Secretary—Indian Affairs.

[FR Doc. 2024-31122 Filed 12-27-24; 8:45 am]

BILLING CODE 4337-15-P